NUCLEAR REGULATORY COMMISSION

10 CFR Parts 2, 21, 37, 50, 52, 73, and 110

[NRC-2019-0128]

RIN 3150-AK34

Miscellaneous Corrections

AGENCY: Nuclear Regulatory Commission.

ACTION: Final rule.

SUMMARY: The U.S. Nuclear Regulatory Commission (NRC) is amending its regulations to make miscellaneous corrections. These changes include removing obsolete language and correcting references, a typographical error, mailing, email, and web page addresses, grammatical errors, a division title, and a division address and title. This document is necessary to inform the public of these non-substantive amendments to the NRC's regulations.

DATES: This final rule is effective on December 18, 2019.

ADDRESSES: Please refer to Docket ID NRC-2019-0128 when contacting the NRC about the availability of information for this action. You may obtain publicly-available information for this action by any of the following methods:

• Federal Rulemaking Website: Go to https://www.regulations.gov and search for Docket ID NRC-2019-0128. Address questions about NRC dockets to Carol Gallagher; telephone: 301-415-3463; email: Carol.Gallagher@nrc.gov.

• NRC's Agencywide Documents Access and Management System (ADAMS): You may obtain publicly-available documents online in the ADAMS Public Documents Collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Jill Shepherd, Office of Nuclear Material Safety and Safeguards, U.S. Nuclear Regulatory Commission, Washington, DC 20555-0001; telephone: 301-415-1230; email: Jill.Shepherd@nrc.gov.

SUPPLEMENTARY INFORMATION:

I. Introduction

The NRC is amending its regulations in parts 2, 21, 37, 50, 52, 73, and 110 of title 10 of the Code of Federal Regulations (10 CFR) to make miscellaneous corrections. These changes include removing obsolete language and correcting references, a typographical error, mailing, email, and web page addresses, grammatical errors, a division title, and a division address and title. This document is necessary to inform the public of these non-substantive amendments to the NRC's regulations.

II. Summary of Changes

10 CFR Part 2

Correct Reference. In § 2.629(b), this final rule removes the incorrect reference § 2.617(b)(2) and replaces it with the correct reference § 2.627(b)(2).

10 CFR Part 21

Correct typographical error. In § 21.3(2), this final rule corrects a typographical error to reference subpart B instead of subpart C.

10 CFR Part 37

Correct address. In § 37.23(b)(2), this final rule removes the incorrect mailing address, ATTN: Document Control Desk; Director, Office of Nuclear Material Safety and Safeguards and replaces it with the correct mailing address, U.S. Nuclear Regulatory Commission, Washington, DC 20555-0001; ATTN: Source Management and Protection Branch. In § 37.27(c)(1) and (2), this final rule corrects a mail stop, two email addresses, a division title, and the title of a web page.

10 CFR Part 50

Correct grammatical errors. This final rule corrects grammatical errors in § 50.36(c)(1)(i)(A) and appendix B to 10 CFR part 50, Section I, Organization. In § 50.36(c)(1)(i)(A), the phrase, integrity of certain of the physical barriers is corrected to read integrity of certain physical barriers. The first word in the seventh sentence in appendix B, section I, Organization, is corrected to read “The” instead of “There.”

Correct Reference. In appendix J to 10 CFR part 50, option B, subsection IV, Recordkeeping, this final rule removes the reference to § 50.72(b)(1)(ii).

10 CFR Part 52

Remove Obsolete Language. In §§ 52.43(b) and 52.79(c)(2), this final rule removes the word “final” when describing a standard design approval.

Correct Reference. In § 52.83(b), this final rule removes the incorrect reference to § 2.617(b)(2) and replaces it with the correct reference to § 2.627(b)(2). In appendices D and E to 10 CFR part 52, section VI.B.6, this final rule removes the incorrect reference to section VIII.B.5.f and replaces it with the correct reference to section VIII.B.5.g. In appendices A through D to 10 CFR part 52, this final rule removes the incorrect reference to ANSI/AISC-690 and replaces it with the correct reference to ANSI/AISC N-690.

10 CFR Part 73

Correct Division Address and Title. In § 73.57(e)(2), this final rule corrects the address and title of a division within the Federal Bureau of Investigation.

Correct Reference. In § 73.70(c), this final rule removes the incorrect reference to § 73.55(d)(6) and replaces it with the correct reference to § 73.55(g)(7). In § 73.71(a)(2), this final rule removes the incorrect reference to § 73.21(g)(3) and replaces it with the correct reference to § 73.22(f)(3). In appendix B, VI.B.1(a)(4), this final rule removes reference to § 73.19 to ensure clarity and orderly codification, as there have never been requirements in § 73.19.

Correct mailing address. In § 73.72(a)(1), this final rule corrects the mailing address where licensees must provide an advance notification of shipment of formula quantities of strategic special nuclear material, special nuclear material of moderate strategic significance, or irradiated reactor fuel.

10 CFR Part 110

Correct Reference. In § 110.42(e)(1), this final rule removes the incorrect reference to § 110.32(h) and replaces it with the correct reference to § 110.32(g).

III. Rulemaking Procedure

Under section 553(b) of the Administrative Procedure Act (5 U.S.C. 553(b)), an agency may waive the requirements for publication in the Federal Register of a notice of proposed rulemaking and opportunity for comment if it finds, for good cause, that it is impracticable, unnecessary, or contrary to the public interest. As authorized by 5 U.S.C. 553(b)(3)(B), the NRC finds good cause to waive notice and opportunity for comment on these amendments, because notice and opportunity for comment is unnecessary. The amendments will have no substantive impact and are of a minor and administrative nature dealing with corrections to certain CFR sections or are related only to management, organization, procedure, and practice. These changes include removing obsolete language and correcting references, a typographical error, mailing, email, and web page addresses, grammatical errors, a division title, and a division address and title. The Commission is exercising its authority under 5 U.S.C. 553(b) to publish these amendments as a final rule. The amendments are effective on December 18, 2019. These amendments do not require action by any person or entity regulated by the NRC, and do not change the substantive responsibilities of any person or entity regulated by the NRC.

IV. Environmental Impact: Categorical Exclusion

The NRC has determined that this final rule is the type of action described in § 51.22(c)(2), which categorically excludes from environmental review rules that are corrective or of a minor, nonpolicy nature and do not substantially modify existing regulations. Therefore, neither an environmental impact statement nor an environmental assessment has been prepared for this rule.

V. Paperwork Reduction Act

This final rule does not contain a collection of information as defined in the Paperwork Reduction Act of 1995 (44 U.S.C. 3501 et seq.) and, therefore, is not subject to the requirements of the Paperwork Reduction Act of 1995.

Public Protection Notification

The NRC may not conduct or sponsor, and a person is not required to respond to, a collection of information unless the document requesting or requiring the collection displays a currently valid OMB control number.

VI. Plain Writing

The Plain Writing Act of 2019 (Pub. L. 111-274) requires Federal agencies to write documents in a clear, concise, and well-organized manner. The NRC has written this document to be consistent with the Plain Writing Act as well as the Presidential Memorandum, “Plain Language in Government Writing,” published June 10, 1998 (63 FR 31883).

VII. Backfitting and Issue Finality

The NRC has determined that the corrections in this final rule do not constitute backfitting and are not inconsistent with any of the issue finality provisions in 10 CFR part 52. The amendments are non-substantive in nature, including removing obsolete language and correcting references, a typographical error, mailing, email, and web page addresses, grammatical errors, a division title, and a division address and title. They impose no new requirements and make no substantive changes to the regulations. The corrections do not involve any provisions that would impose backfits as defined in 10 CFR chapter I or would be inconsistent with the issue finality provisions in 10 CFR part 52. For these reasons, the issuance of this rule in final form would not constitute backfitting or represent a violation of any of the issue finality provisions in 10 CFR part 52. Therefore, the NRC has not prepared any additional documentation for this correction rulemaking addressing backfitting or issue finality.

VIII. Congressional Review Act

This final rule is not a rule as defined in the Congressional Review Act (5 U.S.C. 801-808).

IX. Agreement State Compatibility

Under the “Agreement State Program Policy Statement” approved by the Commission on October 2, 2017, and published in the Federal Register on October 18, 2017 (82 FR 48535), NRC program elements (including regulations) are placed into compatibility categories A, B, C, D, NRC, or adequacy category Health and Safety (H&S). Compatibility Category A program elements are those program elements that are basic radiation protection standards and scientific terms and definitions that are necessary to understand radiation protection concepts. An Agreement State should adopt Category A program elements in an essentially identical manner in order to provide uniformity in the regulation of agreement material on a nationwide basis. Compatibility Category B program elements are those program elements that apply to activities that have direct and significant effects in multiple jurisdictions. An Agreement State should adopt Category B program elements in an essentially identical manner. Compatibility Category C program elements are those program elements that do not meet the criteria of Category A or B, but contain the essential objectives that an Agreement State should adopt to avoid conflict, duplication, gaps, or other conditions that would jeopardize an orderly pattern in the regulation of agreement material on a national basis. An Agreement State should adopt the essential objectives of the Category C program elements. Compatibility Category D program elements are those program elements that do not meet any of the criteria of Category A, B, or C and, therefore, do not need to be adopted by Agreement States for purposes of compatibility. Compatibility Category NRC program elements are those program elements that address areas of regulation that cannot be relinquished to the Agreement States under the Atomic Energy Act of 1954, as amended, or provisions of 10 CFR. These program elements should not be adopted by the Agreement States. Adequacy category H&S program elements are program elements that are required because of a particular health and safety role in the regulation of agreement material within the State and should be adopted in a manner that embodies the essential objectives of the NRC program.

The portion of this final rule that amends part 37 is a matter of compatibility between the NRC and the Agreement States, thereby providing consistency among Agreement State and NRC requirements. The compatibility categories are designated in the following table.

Compatibility Table
Section | Change | Subject | Compatibility: Existing | Compatibility: New
Part 37
§ 37.23(b)(2) | Amend | Access authorization program requirements | B | B
§ 37.27(c) | Amend | Requirements for criminal history records checks of individuals granted unescorted access to category 1 or category 2 quantities of radioactive material | B | B

List of Subjects

10 CFR Part 2

Administrative practice and procedure, Antitrust, Byproduct material, Classified information, Confidential business information, Freedom of information, Environmental protection, Hazardous waste, Nuclear energy, Nuclear materials, Nuclear power plants and reactors, Penalties, Reporting and recordkeeping requirements, Sex discrimination, Source material, Special nuclear material, Waste treatment and disposal.

10 CFR Part 21

Nuclear power plants and reactors, Penalties, Radiation protection, Reporting and recordkeeping requirements.

10 CFR Part 37

Byproduct material, Criminal penalties, Exports, Hazardous materials transportation, Imports, Licensed material, Nuclear materials, Penalties, Radioactive materials, Reporting and recordkeeping requirements, Security measures.

10 CFR Part 50

Administrative practice and procedure, Antitrust, Backfitting, Classified information, Criminal penalties, Education, Emergency planning, Fire prevention, Fire protection, Incorporation by reference, Intergovernmental relations, Nuclear power plants and reactors, Penalties, Radiation protection, Reactor siting criteria, Reporting and recordkeeping requirements, Whistleblowing.

10 CFR Part 52

Administrative practice and procedure, Antitrust, Combined license, Early site permit, Emergency planning, Fees, Incorporation by reference, Inspection, Issue finality, Limited work authorization, Nuclear power plants and reactors, Probabilistic risk assessment, Prototype, Reactor siting criteria, Redress of site, Penalties, Reporting and recordkeeping requirements, Standard design, Standard design certification.

10 CFR Part 73

Criminal penalties, Exports, Hazardous materials transportation, Incorporation by reference, Imports, Nuclear energy, Nuclear materials, Nuclear power plants and reactors, Penalties, Reporting and recordkeeping requirements, Security measures.

10 CFR Part 110

Administrative practice and procedure, Classified information, Criminal penalties, Exports, Incorporation by reference, Imports, Intergovernmental relations, Nuclear energy, Nuclear materials, Nuclear power plants and reactors, Penalties, Reporting and recordkeeping requirements, Scientific equipment.

For the reasons set out in the preamble and under the authority of the Atomic Energy Act of 1954, as amended; the Energy Reorganization Act of 1974, as amended; and 5 U.S.C. 552 and 553, the NRC is adopting the following amendments to 10 CFR parts 2, 21, 37, 50, 52, 73, and 110.

PART 2—AGENCY RULES OF PRACTICE AND PROCEDURE

1. The authority citation for part 2 continues to read as follows:

Authority: Atomic Energy Act of 1954, secs. 29, 53, 62, 63, 81, 102, 103, 104, 105, 161, 181, 182, 183, 184, 186, 189, 191, 234 (42 U.S.C. 2039, 2073, 2092, 2093, 2111, 2132, 2133, 2134, 2135, 2201, 2231, 2232, 2233, 2234, 2236, 2239, 2241, 2282); Energy Reorganization Act of 1974, secs. 201, 206 (42 U.S.C. 5841, 5846); Nuclear Waste Policy Act of 1982, secs. 114(f), 134, 135, 141 (42 U.S.C. 10134(f), 10154, 10155, 10161); Administrative Procedure Act (5 U.S.C. 552, 553, 554, 557, 558); National Environmental Policy Act of 1969 (42 U.S.C. 4332); 44 U.S.C. 3504 note.

Section 2.205(j) also issued under 28 U.S.C. 2461 note.

Section 2.205(j) also issued under Sec. 31001(s), Pub. L. 104-134, 110 Stat. 1321-373 (28 U.S.C. 2461 note).

§ 2.629 [Amended]

2. In § 2.629(b), remove the reference “§ 2.617(b)(2)” and add in its place the reference “§ 2.627(b)(2)”.

PART 21—REPORTING OF DEFECTS AND NONCOMPLIANCE

3. The authority citation for part 21 continues to read as follows:

Authority: Atomic Energy Act of 1954, secs. 53, 63, 81, 103, 104, 161, 223, 234, 1701 (42 U.S.C. 2073, 2093, 2111, 2133, 2134, 2201, 2273, 2282, 2297f); Energy Reorganization Act of 1974, secs. 201, 206 (42 U.S.C. 5841, 5846); Nuclear Waste Policy Act of 1982, secs. 135, 141 (42 U.S.C. 10155, 10161); 44 U.S.C. 3504 note.

§ 21.3 [Amended]

4. In § 21.3 paragraph (2) introductory text under the definition of “Basic component”, remove the phrase “subpart C” and add in its place the phrase “subpart B”.

PART 37—PHYSICAL PROTECTION OF CATEGORY 1 AND CATEGORY 2 QUANTITIES OF RADIOACTIVE MATERIAL

5. The authority citation for part 37 continues to read as follows:

Authority: Atomic Energy Act of 1954, secs. 11, 53, 81, 103, 104, 147, 148, 149, 161, 182, 183, 223, 234, 274 (42 U.S.C. 2014, 2073, 2111, 2133, 2134, 2167, 2168, 2169, 2201, 2232, 2233, 2273, 2282, 2021); Energy Reorganization Act of 1974, secs. 201, 202 (42 U.S.C. 5841, 5842); 44 U.S.C. 3504 note.

§ 37.23 [Amended]

6. In § 37.23(b)(2), remove the phrase “ATTN: Document Control Desk; Director, Office of Nuclear Material Safety and Safeguards” and add in its place the phrase “Director, Office of Nuclear Material Safety and Safeguards, U.S. Nuclear Regulatory Commission, Washington, DC 20555-0001, ATTN: Source Management and Protection Branch”.

7. In § 37.27, revise paragraphs (c)(1) and (2) to read as follows:

§ 37.27 Requirements for criminal history records checks of individuals granted unescorted access to category 1 or 2 quantities of radioactive material.

* * * * *

(c) * * *

(1) For the purposes of complying with this subpart, licensees shall use an appropriate method listed in § 37.7 to submit to the U.S. Nuclear Regulatory Commission, Director, Division of Physical and Cyber Security Policy, 11545 Rockville Pike, ATTN: Criminal History Program/Mail Stop T-8B20, Rockville, MD 20852, one completed, legible standard fingerprint card (Form FD-258, ORIMDNRCOOOZ), electronic fingerprint scan or, where practicable, other fingerprint record for each individual requiring unescorted access to category 1 or category 2 quantities of radioactive material. Copies of these forms may be obtained by emailing MAILSVS.Resource@nrc.gov. Guidance on submitting electronic fingerprints can be found at https://www.nrc.gov/security/chp.html.

(2) Fees for the processing of fingerprint checks are due upon application. Licensees shall submit payment with the application for the processing of fingerprints through corporate check, certified check, cashier's check, money order, or electronic payment, made payable to “U.S. NRC.” (For guidance on making electronic payments, contact the Division of Physical and Cyber Security Policy by emailing Crimhist.Resource@nrc.gov.) Combined payment for multiple applications is acceptable. The Commission publishes the amount of the fingerprint check application fee on the NRC's public website. (To find the current fee amount, go to the Licensee Criminal History Records Checks & Firearms Background Check information page at https://www.nrc.gov/security/chp.html and see the link for How do I determine how much to pay for the request?).

* * * * *

PART 50—DOMESTIC LICENSING OF PRODUCTION AND UTIIZATION FACILITIES

8. The authority citation for part 50 continues to read as follows:

Authority: Atomic Energy Act of 1954, secs. 11, 101, 102, 103, 104, 105, 108, 122, 147, 149, 161, 181, 182, 183, 184, 185, 186, 187, 189, 223, 234 (42 U.S.C. 2014, 2131, 2132, 2133, 2134, 2135, 2138, 2152, 2167, 2169, 2201, 2231, 2232, 2233, 2234, 2235, 2236, 2237, 2239, 2273, 2282); Energy Reorganization Act of 1974, secs. 201, 202, 206, 211 (42 U.S.C. 5841, 5842, 5846, 5851); Nuclear Waste Policy Act of 1982, sec. 306 (42 U.S.C. 10226); National Environmental Policy Act of 1969 (42 U.S.C. 4332); 44 U.S.C. 3504 note; Sec. 109, Pub. L. 96-295, 94 Stat. 783.

§ 50.36 [Amended]

9. In § 50.36(c)(1)(i)(A) in the first sentence, remove the phrase “integrity of certain of the physical barriers” and add in its place the phrase “integrity of certain physical barriers”.

Appendix B to Part 50 [Amended]

10. In appendix B, section I, “Organization,” remove the first word of the seventh sentence “There” and add in its place the word “The”.

Appendix J to Part 50 [Amended]

11. In appendix J, option B—Performance-Based Requirements, section IV, “Recordkeeping,” in the second paragraph remove the phrase “§§ 50.72(b)(1)(ii) and”.

PART 52—LICENSES, CERTIFICATIONS, AND APPROVALS FOR NUCLEAR POWER PLANTS

12. The authority citation for part 52 continues to read as follows:

Authority: Atomic Energy Act of 1954, secs. 103, 104, 147, 149, 161, 181, 182, 183, 185, 186, 189, 223, 234 (42 U.S.C. 2133, 2134, 2167, 2169, 2201, 2231, 2232, 2233, 2235, 2236, 2239, 2273, 2282); Energy Reorganization Act of 1974, secs. 201, 202, 206, 211 (42 U.S.C. 5841, 5842, 5846, 5851); 44 U.S.C. 3504 note.

§ 52.43 [Amended]

13. In § 52.43(b), remove the word “final”.

§ 52.79 [Amended]

14. In § 52.79(c)(2), remove the phrase “final design approval” and add in its place the phrase “design approval”.

§ 52.83 [Amended]

15. In § 52.83(b), remove the reference “§ 2.617(b)(2)” and add in its place the reference “§ 2.627(b)(2)”.

Appendix A to Part 52 [Amended]

16. In appendix A, section VIII.B.6c.(2), remove the reference “ANSI/AISC-690” and add in its place the reference “ANSI/AISC N-690”.

Appendix B to Part 52 [Amended]

17. In appendix B, section VIII.B.6c.(2), remove the reference “ANSI/AISC-690” and add in its place the reference “ANSI/AISC N-690”.

Appendix C to Part 52 [Amended]

18. In appendix C, section VIII.B.6c.(4), remove the reference “ANSI/AISC—690” and add in its place the reference “ANSI/AISC N-690”.

Appendix D to Part 52 [Amended]

19. In appendix D, in section VI.B.6, remove the reference “VIII.B.5.f” and add in its place the reference “VIII.B.5.g” and in section VIII.B.6.c(4), remove the reference “(ANSI/AISC)-690” and add in its place the reference “(ANSI/AISC) N-690”.

Appendix E to Part 52 [Amended]

20. In appendix E, section VI.B.6, remove the reference “VIII.B.5.f” and add in its place the reference “VIII.B.5.g”.

PART 73—PHYSICAL PROTECTION OF PLANTS AND MATERIALS

21. The authority citation for part 73 continues to read as follows:

Authority: Atomic Energy Act of 1954, secs. 53, 147, 149, 161, 170D, 170E, 170H, 170I, 223, 229, 234, 1701 (42 U.S.C. 2073, 2167, 2169, 2201, 2210d, 2210e, 2210h, 2210i, 2273, 2278a, 2282, 2297f); Energy Reorganization Act of 1974, secs. 201, 202 (42 U.S.C. 5841, 5842); Nuclear Waste Policy Act of 1982, secs. 135, 141 (42 U.S.C. 10155, 10161); 44 U.S.C. 3504 note.

Section 73.37(b)(2) also issued under Sec. 301, Public Law 96-295, 94 Stat. 789 (42 U.S.C. 5841 note).

§ 73.57 [Amended]

22. In § 73.57(e)(2):

a. Remove the title “Assistant Director,” in the second sentence;

b. Remove the title “Identification Division” and add in its place the title “Criminal Justice Information Services Division” wherever it appears; and

c. Remove “Washington DC 20537-9700” and add in its place “1000 Custer Hollow Road, Clarksburg, WV 26306” in the second sentence.

§ 73.70 [Amended]

23. In § 73.70(c) remove the reference “73.55(d)(6)” and add in its place the reference “73.55(g)(7)”.

§ 73.71 [Amended]

24. In § 73.71(a)(2) remove the reference “§ 73.21(g)(3)” and add in its place the reference “§ 73.22(f)(3)”.

25. In § 73.72, revise paragraph (a)(1) to read as follows:

§ 73.72 Requirement for advance notice of shipment of formula quantities of strategic special nuclear material, special nuclear material of moderate strategic significance, or irradiated reactor fuel.

(a) * * *

(1) Notify in writing by mail addressed to ATTN: Director, Office of Nuclear Security and Incident Response, U.S. Nuclear Regulatory Commission, Washington, DC 20555, or by using any appropriate method listed in § 73.4 of this part. Classified notifications shall be sent to the NRC headquarters classified mailing address listed in appendix A to this part.

* * * * *

Appendix B to Part 73 [Amended]

26. In appendix B, section VI.B.1(a)(4) remove the last sentence.

PART 110—EXPORT AND IMPORT OF NUCLEAR EQUIPMENT AND MATERIAL

27. The authority citation for part 110 continues to read as follows:

Authority: Atomic Energy Act of 1954, secs. 11, 51, 53, 54, 57, 62, 63, 64, 65, 81, 82, 103, 104, 109, 111, 121, 122, 123, 124, 126, 127, 128, 129, 133, 134, 161, 170H, 181, 182, 183, 184, 186, 187, 189, 223, 234 (42 U.S.C. 2014, 2071, 2073, 2074, 2077, 2092, 2093, 2094, 2095, 2111, 2112, 2133, 2134, 2139, 2141, 2151, 2152, 2153, 2154, 2155, 2156, 2157, 2158, 2160c, 2160d, 2201, 2210h, 2231, 2232, 2233, 2234, 2236, 2237, 2239, 2273, 2282); Energy Reorganization Act of 1974, sec. 201 (42 U.S.C. 5841); Administrative Procedure Act (5 U.S.C. 552, 553); 42 U.S.C. 2139a, 2155a; 44 U.S.C. 3504 note.

Section 110.1(b) also issued under 22 U.S.C. 2403; 22 U.S.C. 2778a; 50 App. U.S.C. 2401 et seq.

§ 110.42 [Amended]

28. In § 110.42(e)(1) remove the reference “§ 110.32(h)” and add in its place the reference “§ 110.32(g)”.

Dated at Rockville, Maryland, this 8th day of November 2019.
For the Nuclear Regulatory Commission.
Pamela J. Shepherd-Vladimir,
Acting Chief, Regulatory Analysis and Rulemaking Support Branch, Office of Nuclear Material Safety and Safeguards.

[FR Doc. 2019-25021 Filed 11-15-19; 8:45 am]

BILLING CODE 7590-01-M